DEPARTMENT OF TREASURY

Office of the General Counsel; Appointment of Members of the Legal Division to the Performance Review Board, Internal Revenue Service

Correction—On September 16, 2008, Volume 73 FR, page # 53490 we issued this notice listing Clarissa Potter, Deputy Chief Counsel (Technical) as Chairperson; however, the Chairperson will be H. Stephen Kesselman, Deputy Chief Counsel (Operations).

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, H. Stephen Kesselman, Deputy Chief Counsel (Operations).

2. Roland Barral, Area Counsel (Large and Mid-Size Business).

3. Ellen T. Friberg, Area Counsel (Small Business/Self Employed).

4. Steve Larson, Associate Chief Counsel (Financial Institutions and Products).

5. Edward Cronin (Ted), Division Counsel/Associate Chief Counsel (Criminal Tax).

This publication is required by 5 U.S.C. 4314(c)(4).

Dated: October 7, 2008.
Donald L. Korb,
Chief Counsel, Internal Revenue Service.

[FR Doc. E8-24318 Filed 10-10-08; 8:45 am]

BILLING CODE 4830-01-P